DEPARTMENT OF STATE

[Public Notice: 7454]

Determination Under the Supplemental Appropriations Act, 2010 (Pub. L. 111-212) Concerning the Government of Iraq's Support for the Iraq Police Program

Pursuant to the authority vested in the Secretary of State under the International Narcotics Control and Law Enforcement heading in the Supplemental Appropriations Act, 2010 (Pub. L. 111-212) (“the Act”), and the Department of State Delegation of Authority Number 245-1, I hereby determine that, with respect to the $200 million INCLE funds made available for implementation, management, security, communications, and other expenses related to the Iraqi police program, the Government of Iraq supports and is cooperating with such program.

This Determination shall be reported to Congress and published in the Federal Register.

Dated: December 28, 2010.
James B. Steinberg,
Deputy Secretary of State.

Editorial Note: This document was received in the Office of the Federal Register on May 6, 2011.

[FR Doc. 2011-11549 Filed 5-10-11; 8:45 am]

BILLING CODE 4710-17-P